DEPARTMENT OF COMMERCE

Notice to Announce Secretary Evans, Oil and Gas Business Development Mission to Russia, September 21-25, 2003; Correction

AGENCY: Department of Commerce.

SUMMARY: The Department of Commerce published a document in the Federal Register of July 15, 2003, concerning notice to announce DOC Secretary Evans, Oil and Gas Business Development Mission to Russia, September 21-25, 2003. The document contained incorrect Web site addresses.

FOR FURTHER INFORMATION CONTACT: Molly Costa, 202-482-0692.

Correction

In the Federal Register of July 15, 2003, in FR Doc. 03-17807 (Vol. 68, No. 135), on page 41782, in the second column, correct the two references to mission Web sites to: http://www.commerce.gov/russiamission2003.

Dated: July 15, 2003.
Molly Costa,
Industry Sector Manager, U.S. and Foreign Commercial Service.

[FR Doc. 03-18276 Filed 7-17-03; 8:45 am]

BILLING CODE 3510-DR-M